SECURITIES AND EXCHANGE COMMISSION

Sunshine Act Meeting

Notice is hereby given, pursuant to the provisions of the Government in the Sunshine Act, Pub. L. 94-409, that the Securities and Exchange Commission will hold the following meetings during the week of September 16, 2002:

A Closed Meeting will be held on Thursday, September 19, 2002, at 10 a.m., and an Open Meeting will be held on Thursday, September 19, 2002, at 3:30 p.m., in Room 1C30, the William O. Douglas Room.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(3), (5), (7), (8), (9)(B) and (10) and 17 CFR 200.402(a)(3), (5), (7), (8), (9)(ii) and (10), permit consideration of the scheduled matters at the Closed Meeting.

The subject matter of the Closed Meeting scheduled for Thursday, September 19, 2002 will be:

Institution and settlement of injunctive actions;

Institution and settlement of administrative proceedings of an enforcement nature;

Formal orders of investigations; and

Regulatory matters regarding financial institutions.

The subject matter of the Open Meeting scheduled for Thursday, September 19, 2002 will be:

1. The Commission will consider whether to propose amendments to Forms N-1A, N-2, and N-3, and proposed Form N-CSR, that would require mutual funds and other registered management investment companies to disclose the policies and procedures that they use to determine how to vote proxies relating to portfolio securities. The proposed amendments would also require registered management investment companies to file with the Commission, and make available to shareholders, their proxy voting records.

2. The Commission will consider whether to propose new rule 206(4)-6 under the Investment Advisers Act of 1940 that would require registered investment advisers to adopt proxy voting policies and procedures, and to disclose to clients those policies and procedures and how clients can obtain information about how the adviser has voted their proxies. In addition, the Commission will consider an amendment to rule 204-2 under the Investment Advisers Act of 1940 that would require advisers to keep records of how they vote client proxies.

At times, changes in Commission priorities require alterations in the scheduling of meeting items. For further information and to ascertain what, if any, matters have been added, deleted or postponed, please contact: The Office of the Secretary at (202) 942-7070.

Dated: September 12, 2002.
Margaret H. McFarland,
Deputy Secretary.

[FR Doc. 02-23663 Filed 9-12-02; 4:00 pm]

BILLING CODE 8010-01-P